DEPARTMENT OF EDUCATION

Office of Special Education and Rehabilitative Services; Overview Information; Research and Innovation To Improve Services and Results for Children With Disabilities—Research and Innovation: Notice Inviting Applications for New Awards for Fiscal Year (FY) 2004

Catalog of Federal Domestic Assistance (CFDA) Number: 84.324C.

Dates:

Applications Available: June 7, 2004.

Deadline for Transmittal of Applications: July 9, 2004.

Eligible Applicants: State educational agencies (SEAs); local educational agencies (LEAs); institutions of higher education (IHEs); other public agencies; nonprofit private organizations; outlying areas; freely associated States; and Indian tribes or tribal organizations.

Estimated Available Funds: $7,800,000.

Estimated Average Size of Awards: Innovation research and model development: $180,000; Replication and scale-up: $360,000.

Maximum Award: Innovation research and model development: $180,000; Replication and scale-up: $360,000. We will reject any application that proposes a budget exceeding the maximum award for a single budget period of 12 months. The Assistant Secretary for the Office of Special Education and Rehabilitative Services may change the maximum amount through a notice published in the Federal Register.

Estimated Number of Awards: Information is provided elsewhere in this notice in Section II Award Information,

Estimated Number of Awards.

Project Period: Up to 60 months. Typical awards will be for 36 months. Projects requesting funding beyond 36 months must provide compelling evidence for up to a maximum of 60 months of funding.

Full Text of Announcement

I. Funding Opportunity Description

Purpose of Program: To produce, and advance the use of, knowledge to improve the results of education and early intervention for infants, toddlers, and children, with disabilities.

Priority: In accordance with 34 CFR 75.105(b)(2)(iv), this priority is from allowable activities specified in the statute (see sections 661(e)(2) and 672 of the Individuals with Disabilities Education Act (IDEA)).

Absolute Priority: For FY 2004 this priority is an absolute priority. Under 34 CFR 75.105(c)(3), we consider only applications that meet this priority.

This priority is:

Research and Innovation To Improve Services and Results for Children With Disabilities—Research and Innovation

Background: This priority supports research to improve results for infants, toddlers, children, or youth with disabilities through early intervention, educational, transitional, post secondary, or related services. Proposals for three types of research will be accepted for this competition: (1) Innovation Research, (2) Model Development, and (3) Replication and Scale-up. Innovation Research projects assess the effectiveness of innovative practices including interventions, strategies, and policies. Model Development projects develop, implement, and evaluate models (including models for professional development). Projects supported as models must gather evidence of efficacy or usefulness of models for service providers. A successful Model Development project would be one that develops guidelines, procedures, or materials needed for implementation of the model and provides evidence that the model has the potential to improve the results. One goal of Model Development projects is to determine if the model is effective when implemented at a distance from the developers of the program and with no more support from the developers of the program than would be available under typical conditions. To do this, applicants should propose studies to determine the degree to which these models are effective when implemented by typical service providers in typical settings.

Replication and Scale-up projects assess the effectiveness of a proven model or practice when systematically replicated across a variety of settings by typical service providers. Applicants should provide a strong rationale, including empirical evidence, to support the efficacy of the model or practice.

An applicant must address only one of these types of research in its application.

Priority: Applicants must—

(a) Target intended beneficiaries of Part B and Part C of IDEA.

(b) Provide a strong rationale for the practical importance of the practice or model. The critical question is whether the focus of the research is likely to produce meaningful effects.

(c) Provide a detailed research design and describe how potential threats to internal and external validity will be addressed.

(d) Provide detailed descriptions of data analysis procedures.

(e) Provide documentation of the resources required to implement the program and a cost analysis.

(f) If applicable to the study, design research to account for sources of variation in outcomes across settings (i.e., to account for what might otherwise be part of the error variance). Applicants should provide a theoretical rationale to justify the inclusion (or exclusion) of factors/variables in the design of the research that have been found to affect the success of a practice or model (e.g., teacher experience, fidelity of implementation, characteristics of the student population). The research should demonstrate the conditions and critical variables that affect the success of a given practice or model.

(g) Specify how procedures, findings and conclusions will be prepared in a manner that advances the knowledge base and, if appropriate, professional practice. Publication through a peer review process is one expected method of dissemination.

(h) Define, as completely as possible, the sample to be selected and sampling procedures to be employed for the proposed study.

(i) Show how the long-term participation of those sampled would be assured.

(j) Supply information on the reliability, validity, and appropriateness of proposed measures, or if the reliability and validity of the measurement, assessment, or observational procedures are initially unknown, the applicant must include specific plans for establishing these measurement properties.

(k) Include standardized measures of learning and achievement when measuring student achievement.

(l) Specify how the implementation of the practice or model will be documented and measured. Either indicate how the practice or model will be maintained consistently across multiple environments (e.g., classrooms or schools) over time or describe the parameters under which variations may be described.

(m) For quantitative data, cite specific statistical procedures. For qualitative data, delineate the specific methods used to index, summarize, and interpret data.

(n) If proposing to evaluate the effectiveness of a practice or model that is already widely used (i.e., has already been scaled-up), provide a strong justification for evaluating the practice or model based on the implications for education that would result from conducting a rigorous evaluation of the practice or model. This justification must include documentation of the widespread use of the practice or model.

(o) If proposing to study the scale-up of a practice or model that has not yet been implemented widely, provide evidence of the efficacy of the practice or model as implemented on a small scale. That evidence should be based on the results of randomized field trials, or well-designed quasi-experimental evaluations.

(p) If posing a causal question, employ a randomized assignment to treatment and comparison conditions, unless a strong justification is made for why a randomized trial is not possible. In this case, employ alternatives that substantially minimize selection bias or allow it to be modeled. Such alternatives include appropriately structured regression-discontinuity designs and natural experiments in which naturally occurring circumstances or institutions (perhaps unintentionally) divide people into treatment and comparison groups in a manner akin to purposeful random assignment. Applicants proposing to use other than a randomized design must, first, make a compelling case that randomization is not possible and, second, describe in detail the procedures to be used that will result in substantially minimizing the effects of selection bias on estimates of effect size. Choice of randomizing unit or units (e.g., students, classrooms, schools) must be grounded in a theoretical framework. Observational, survey, or qualitative methodologies are encouraged as a complement to experimental methodologies to assist in the identification of factors that may explain the effectiveness or ineffectiveness of the practice. Proposals should provide research designs that permit the identification and assessment of factors impacting the fidelity of implementation. Mediating and moderating variables that are measured in the practice or model condition that are also likely to affect outcomes in the comparison condition should be measured in the comparison condition (e.g., student time-on-task, teacher experience and time in position).

(q) Budget for a two-day Project Directors' meeting in Washington, DC during each year of the project.

(r) If the applicant plans to use a Web site during the funded period, relevant information and documents must conform to Department accessibility guidelines.

Waiver of Proposed Rulemaking

Under the Administrative Procedure Act (5 U.S.C. 553) the Department generally offers interested parties the opportunity to comment on proposed priorities. However, section 661(e)(2) of IDEA makes the public comment requirements inapplicable to the priorities in this notice.

Program Authority: 20 U.S.C. 1461, 1472.

Applicable Regulations: The Education Department General Administrative Regulations (EDGAR) in 34 CFR parts 74, 75, 77, 80, 81, 82, 84, 85, 86, 97, 98, and 99.

Note: The regulations in 34 CFR part 86 apply to IHEs only.

II. Award Information

Type of Award: Discretionary grants.

Estimated Available Funds: $7,800,000.

Estimated Average Size of Awards: Innovation research and model development: $180,000; Replication and scale-up: $360,000.

Maximum Award: Innovation research and model development: $180,000; Replication and scale-up: $360,000. We will reject any application that proposes a budget exceeding the maximum award for a single budget period of 12 months. The Assistant Secretary for the Office of Special Education and Rehabilitative Services may change the maximum amount through a notice published in the Federal Register.

Estimated Number of Awards: 38. Contingent upon the availability of funds and the receipt of a sufficient number of meritorious applications, we intend to fund at least 38 awards in the areas of innovation research, model development, and replication and scale-up. Given a sufficient number of approved high quality applications, we intend to fund at least two Model Development projects that would develop effective models for ensuring the full and effective participation of parents in systemic efforts to improve outcomes for children with disabilities under IDEA and the No Child Left Behind Act of 2001 (NCLB). These models, in addition to the previous requirements, must: (1) Prepare parents to assume collaborative leadership roles as members of local and State education policy forums such as NCLB school improvement teams, local and State level advisory groups, special education advisory councils, and other coalitions designed to improve educational results; (2) include opportunities for parents to learn and apply collaborative leadership skills in real settings; and (3) include parent membership organizations and other organizations in the development, implementation, and evaluation of the models.

In addition, given a sufficient number of approved high quality applications, we intend to fund at least four Model Development projects for supporting students with disabilities in two postsecondary education settings, such as two-year colleges, four-year colleges, and universities. Within these models, supports and services for students with disabilities must be integrated, to the greatest extent possible, with the postsecondary institutions' supports and services for all students. At least two of these four models must include supporting students with intellectual disabilities (i.e., mental retardation and related disabilities) and may be designed for students who did not graduate from high school with a regular diploma or students who are still IDEA-eligible (such as those in dual enrollment programs).

Note: The Department is not bound by any estimates in this notice.

Project Period: Up to 60 months. Typical awards will be for 36 months. Projects requesting funding beyond 36 months must provide compelling evidence for up to a maximum of 60 months of funding.

III. Eligibility Information

1. Eligible Applicants: SEAs; LEAs; IHEs; other public agencies; nonprofit private organizations; outlying areas; freely associated States; and Indian tribes or tribal organizations.

2. Cost Sharing or Matching: This competition does not involve cost sharing or matching.

3. Other: General Requirements—(a) The projects funded under this notice must make positive efforts to employ and advance in employment qualified individuals with disabilities (see section 606 of IDEA).

(b) Applicants and grant recipients funded under this notice must involve individuals with disabilities or parents of individuals with disabilities in planning, implementing, and evaluating the projects (see section 661(f)(1)(A) of IDEA).

IV. Application and Submission Information

1. Address to Request Application Package: Education Publications Center (ED Pubs), P.O. Box 1398, Jessup, MD 20794-1398. Telephone (toll free): 1-877-433-7827. Fax: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.324C.

Individuals with disabilities may obtain a copy of the application package in an alternative format (e.g., Braille, large print, audiotape, or computer diskette) by contacting the Grants and Contracts Services Team listed under For Further Information Contact in section VII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:

Applications Available: June 7, 2004.

Deadline for Transmittal of Applications: July 9, 2004. The dates and times for the transmittal of applications by mail or by hand (including a courier service or commercial carrier) are in the application package for this competition. The application package also specifies the hours of operation of the e-Application Web site.

We do not consider an application that does not comply with the deadline requirements.

4. Intergovernmental Review: This program is not subject to Executive Order 12372 and the regulations in 34 CFR part 79.

5. Funding Restrictions: We reference regulations outlining funding restrictions in the Applicable Regulations section of this notice.

6. Other Submission Requirements: Instructions and requirements for the transmittal of applications by mail or by hand (including a courier service or commercial carrier) are in the application package for this competition.

Application Procedures:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Government-Wide Grants.gov Project for Electronic Submission of Applications

We have been accepting applications electronically through the Department's e-Application system since FY 2000. In order to expand on those efforts and comply with the President's Management Agenda, we are participating as a partner in the new government-wide Grants.gov Apply site in FY 2004. The Special Education—Research and Innovation to Improve Services and Results for Children with Disabilities—Research and Innovation competition—CFDA Number 84.324C is one of the competitions included in the pilot project. If you are an applicant under the Research and Innovation to Improve Services and Results for Children with Disabilities—Research and Innovation competition—CFDA Number 84.324C, you may submit your application to us in either electronic or paper format.

The project involves the use of the Grants.gov Apply site (Grants.gov). If you use Grants.gov, you will be able to download a copy of the application package, complete it offline, and then upload and submit the application via the Grants.gov site. You may not e-mail an electronic copy of a grant application to us. We request your participation in Grants.gov.

If you participate in Grants.gov, please note the following:

• Your participation is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the Application for Federal Education Assistance (ED 424), Budget Information—Non-Construction Programs (ED 524), and all necessary assurances and certifications.

• Your application must comply with any page limit requirements described in this notice.

• After you electronically submit your application, you will receive an automatic acknowledgement from Grants.gov that contains a Grants.gov tracking number. The Department will retrieve your application from Grants.gov and send you a second confirmation, which will include a PR/Award number (an ED-specified identifying number) unique to your application.

• We may request that you give us original signatures on forms at a later date.

• If you experience technical difficulties on the application deadline date and are unable to meet the 4:30 p.m. (Washington, DC time) deadline, print out your application and follow the instructions included in the application package for the transmittal of paper applications.

You may access the electronic grant application for the Research and Innovation to Improve Services and Results for Children with Disabilities—Research and Innovation competition—CFDA Number 84.324C at: http://e-grants.ed.gov.

Note: Please note that you must search for the downloadable application package for this program by the CFDA number. Do not include the CFDA number's alpha suffix in your search.

V. Application Review Information

Selection Criteria: The selection criteria for this competition are listed in 34 CFR 75.210 of EDGAR. The specific selection criteria to be used for this competition are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing indicators and measures that will yield information on various aspects of the quality of the Research and Innovation to Improve Services and Results for Children with Disabilities program. Included in these indicators and measures will be those that assess the quality and relevance of newly funded research projects. Two indicators will address the quality of new projects. First, an external panel of eminent senior scientists will review the quality of a randomly selected sample of newly funded research applications, and the percentage of new projects that are deemed to be of high quality will be determined. Second, because much of the Department's work focuses on questions of effectiveness, newly funded applications will be evaluated to identify those that address causal questions and then to determine what percentage of those projects use randomized field trials to answer the causal questions. To evaluate the relevance of newly funded research projects, a panel of experienced education practitioners and administrators will review descriptions of a randomly selected sample of newly funded projects and rate the degree to which the projects are relevant to practice.

Other indicators and measures are still under development in areas such as the quality of project products and long-term impact. Data on these measures will be collected from the projects funded under this notice. Grantees will also be required to report information on their projects' performance in annual reports to the Department (EDGAR, 34 CFR 75.590).

VII. Agency Contact

For Further Information Contact: Tom V. Hanley, U.S. Department of Education, 400 Maryland Avenue, SW., room 4066, Potomac Center Plaza, Washington, DC 20202-2550. Telephone: (202) 205-8110.

If you use a telecommunications device for the deaf (TDD), you may call the Federal Information Relay Service (FIRS) at 1-800-877-8339.

Individuals with disabilities may obtain this document in an alternative format (e.g., Braille, large print, audiotape, or computer diskette) on request by contacting the following office: the Grants and Contracts Services Team, U.S. Department of Education, 400 Maryland Avenue, SW., Potomac Center Plaza, Washington, DC 20202-2550. Telephone: (202) 205-8207.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 1, 2004.
Troy R. Justesen,
Acting Deputy Assistant Secretary for Special Education and Rehabilitative Services.

[FR Doc. 04-12713 Filed 6-3-04; 8:45 am]

BILLING CODE 4000-01-P